ENVIRONMENTAL PROTECTION AGENCY

[CERCLA-04-2023-2526; FRL-10565-01-R4]

Mississippi Phosphates Corp. Superfund Site, Pascagoula, Mississippi; Notice of Proposed Settlement

AGENCY: Environmental Protection Agency (EPA).

ACTION: Notice of proposed settlement agreement.

SUMMARY: Under the Comprehensive Environmental Response, Compensation and Liability Act (CERCLA), the United States Environmental Protection Agency is proposing to enter into an Administrative Settlement Agreement for Removal Action by Bona Fide Prospective Purchaser with Seven Seas Terminals, LLC concerning the Mississippi Phosphates Corp. Superfund Site. The settlement agreement addresses a removal action to be performed at the site by Seven Seas Terminals, LLC, a Bona Fide Prospective Purchaser.

DATES: The Agency will consider public comments on the proposed settlement agreement until September 20, 2023. The Agency will consider all comments received and may modify or withdraw its consent to the proposed settlement agreement, if comments received disclose facts or considerations which indicate that the proposed settlement agreement is inappropriate, improper or inadequate.

ADDRESSES: Copies of the settlement are available from the Agency by contacting Ms. Paula V. Painter, Program Analyst, using the contact information provided in this notice.

Comments may also be submitted by referencing the Site's name through one of the following methods:

Internet: https://www.epa.gov/aboutepa/about-epa-region-4-southeast#r4-public-notices

Email: Painter.Paula@epa.gov

FOR FURTHER INFORMATION CONTACT: Paula V. Painter at (404) 562-8887.

Gregory Armstrong,
Acting Manager, Enforcement Branch, Superfund & Emergency Management Division.

[FR Doc. 2023-17943 Filed 8-18-23; 8:45 am]

BILLING CODE 6560-50-P